DEPARTMENT OF AGRICULTURE

Center for Nutrition Policy and Promotion; Agency Information Collection Activities; Proposed Collection; Comment Request—Generic Clearance for the Development of Nutrition Education Messages and Products for the General Public

AGENCY: Center for Nutrition Policy and Promotion, USDA.

ACTION: Notice.

SUMMARY: In accordance with the Paperwork Reduction Act of 1995, this notice invites the general public and other public agencies to comment on a proposed information collection. This is a revision of a currently approved collection.

This notice announces the Center for Nutrition Policy and Promotion's (CNPP) intention to request the Office of Management and Budget's approval of the information collection processes and instruments to be used during consumer research while testing nutrition education messages and products developed for the general public. The purpose for performing consumer research is to identify consumers' understanding of potential nutrition education messages and obtain their reaction to prototypes of nutrition education products, including Internet-based tools. The information collected will be used to refine messages and improve the usefulness of products as well as aid consumer understanding of current Dietary Guidelines for Americans and MyPyramid-related materials (OMB No.: 0584-0535, Expiration Date 6/30/2009).

DATES: Written comments on this notice must be submitted on or before August 3, 2009.

ADDRESSES: Comments are invited on (a) whether the proposed collection of information is necessary for the proper performance of the functions of the agency, including whether the information will have practical utility; (b) the accuracy of the agency's estimate of the burden of the proposed collection of information, including the validity of the methodology and assumptions used; (c) ways to enhance the quality, utility and clarity of the information collected; and (d) ways to minimize the burden of the collection of information on those who are to respond, including the use of appropriate automated, electronic, mechanical, or other technological collection techniques or other forms of information technology.

Comments may be sent to Carole Davis, Director, Nutrition Guidance and Analysis Division, Center for Nutrition Policy and Promotion, U.S. Department of Agriculture, 3101 Park Center Drive, Room 1034, Alexandria, VA 22302. Comments may also be submitted via fax to the attention of Carole Davis at 703-305-3300 or via e-mail to DG2010Comments@cnpp.usda.gov. Comments will also be accepted through the Federal eRulemaking Portal. Go to http://www.regulations.gov and follow the online instructions for submitting comments electronically. All written comments will be open for public inspection during regular business hours (8:30 a.m. to 5 p.m. Monday through Friday) at the Center for Nutrition Policy and Promotion's main office located at 3101 Park Center Drive, Room 1034, Alexandria, Virginia 22302.

All responses to this notice will be summarized and included in the request for Office of Management and Budget approval. All comments will also become a matter of public record.

FOR FURTHER INFORMATION CONTACT: Requests for additional information should be directed to Carole Davis at 703-305-7600.

SUPPLEMENTARY INFORMATION: Title: Generic Clearance for the Development of Nutrition Education Messages and Products for the General Public.

OMB Number: 0582-0523.

Expiration Date: January 31, 2010.

Type of Request: Revision of a currently approved information collection.

Abstract: The Dietary Guidelines for Americans, issued jointly by the U.S. Departments of Agriculture and Health and Human Services, are the cornerstone of Federal nutrition policy and form the basis for nutrition education efforts of these agencies. The U.S. Department of Agriculture's CNPP develops and promotes nutrition education materials to help consumers understand and use the Dietary Guidelines for Americans as well as MyPyramid, the tool designed to help consumers implement the Dietary Guidelines. Additional materials (hard copy and electronic) are used to help consumers understand and use the Dietary Guidelines, many of which may be geared toward various special population groups. Publications and web materials that have become obsolete since the release of the 2010 Dietary Guidelines for Americans and MyPyramid will also need to be updated and replaced. With the increased prevalence of overweight and obesity in the United States, it has become increasingly important to communicate clear and useful nutrition education information related to the Dietary Guidelines on food choices, weight, and physical activity. The USDA has had the lead administrative responsibility for the 2010 Dietary Guidelines revision process from which new messages and materials will be developed, including a new consumer bulletin.

Educational messages and products in support of the Dietary Guidelines for Americans and MyPyramid will be developed by the Center for Nutrition Policy and Promotion. They may include:

1. Messages and products related to the 2010 Dietary Guidelines for Americans that help consumers make healthier food and physical activity choices;

2. Enhancement of the MyPyramid Web site to include additional components such as updated nutrition and physical activity personalized tracking and other interactive tools as well as consumer and professional support materials;

3. Materials relaying the 2010 Dietary Guidelines for Americans and MyPyramid for special population groups that might be identified; and

4. New policy, messages, materials, and tools that might be developed as a result of the 2010 Dietary Guidelines for Americans revision process.

The products for these initiatives will be tested using qualitative consumer research techniques, which may include focus groups (with general consumers, educators, students, etc.), interviews (i.e., intercept, individual, diads, triads, usability testing, etc.) and Web-based surveys. Participants being tested will provide information regarding the clarity, understandability, and acceptability of the messages and products during the developmental process and during the final product development stage.

Affected Public: Individuals and Households.

Estimated Number of Respondents: 57,000.

Estimated Number of Responses per Respondent: One.

Estimated Time per Response: 12.63 minutes.

Estimated Total Annual Burden on Respondents: 12,004 hours.

Estimation of Burden Hours
(a) Affected public | (b) Survey instruments | (c) Number of respondents | (d) Frequency of responses | (e) Est. total annual responses per respondent (dxe) | (f) Hours per response | (g) Total burden (fxg)
Reporting Burden
| Focus Group Screeners | 7,500.00 | 1.00 | 7,500.00 | 0.25 | 1,875.00
| Interview Screeners | 7,500.00 | 1.00 | 7,500.00 | 0.25 | 1,875.00
| Focus Group Screeners | 500.00 | 1.00 | 500.00 | 2.00 | 1,000.00
| Interview | 500.00 | 1.00 | 500.00 | 1.00 | 500.00
| Web-based Collections | 20,000.00 | 1.00 | 20,000.00 | 0.25 | 5,000.00
Individuals & Households | Confidentiality Agreement | 21,000.00 | 1.00 | 21,000.00 | 0.08 | 1,753.50
Total |  | 57,000.00 | 1.00 | 57,000.00 | 32.00 | 12,003.50

Dated: May 26, 2009.
Robert C. Post,
Acting Executive Director, Center for Nutrition Policy and Promotion, U.S. Department of Agriculture.

[FR Doc. E9-12748 Filed 6-1-09; 8:45 am]

BILLING CODE 3410-30-P